DEPARTMENT OF COMMERCE

National Oceanic and Atmospheric Administration

50 CFR Part 660

[ID. 031103A]

Fisheries Off West Coast States and in the Western Pacific;Pacific Coast Groundfish Fishery; Renewal of Exempted Fishing Permit

AGENCY: National Marine Fisheries Service (NMFS), National Oceanic and Atmospheric Administration (NOAA), Commerce.

ACTION: Renewal of Exempted Fishing Permits (EFPs) for monitoring incidental catch of salmon and groundfish in the Washington-Oregon-California (WOC) shore-based Pacific whiting fishery.

SUMMARY: NMFS announces the receipt of an application, and NMFS' intent to renew EFPs for vessels participating in an observation program to monitor the incidental take of salmon and groundfish in the shore-based component of the Pacific whiting fishery. The EFPs are necessary to allow trawl vessels fishing for Pacific whiting to delay sorting their catch, and thus to retain prohibited species and groundfish in excess of cumulative trip limits until the point of offloading. These activities are otherwise prohibited by Federal regulations.

DATES: Comments must be received by April 7, 2003. The EFPs will be effective no earlier than April 1, 2003, and would expire no later than May 31, 2004, but could be terminated earlier under terms and conditions of the EFPs and other applicable laws.

ADDRESSES: Copies of the EFP application are available from Becky Renko Northwest Region, NMFS, 7600 Sand Point Way N.E., Bldg. 1, Seattle, WA 98115-0070.

FOR FURTHER INFORMATION CONTACT: Becky Renko or Carrie Nordeen (206)526-6140.

SUPPLEMENTARY INFORMATION: This action is authorized by Magnuson-Stevens Fishery Conservation and Management Act provisions at 50 CFR 600.745 which state that EFPs may be used to authorize fishing activities that would otherwise be prohibited. The information gathered through these EFPs may lead to future rulemakings.

NMFS received an application requesting renewal of these EFPs from the States of Washington, Oregon, and California at the November 2002 Pacific Fishery Management Council (Council) meeting in San Francisco, CA. An opportunity for public testimony was provided during the Council meeting. The Council recommended that NMFS issue the EFPs, as requested by the States.

Renewal of these EFPs, to about 40 vessels, would continue an ongoing program to collect information on the incidental catch of salmon and groundfish in whiting harvests delivered to shoreside processing facilities by domestic trawl vessels operating off WOC. Because whiting deteriorates rapidly, it must be handled quickly and immediately chilled to maintain the quality. As a result, many vessels dump catch directly or near directly into the hold and are unable to effectively sort their catch.

The issuance of EFPs will allow vessels to delay sorting of groundfish catch in excess of cumulative trip limits and prohibited species until offloading. Delaying sorting until offloading will allow state biologists and industry-hired samplers to collect incidental catch data for total catch estimates and will enable whiting quality to be maintained. Without an EFP, groundfish regulations at 50 CFR 660.306(b) require vessels to sort their prohibited species catch and return them to sea as soon as practicable with minimum injury. To allow state biologists and industry-hired samplers to sample unsorted whiting, it is also necessary to include provisions for potential overages of groundfish trip limits which are prohibited by regulations at 50 CFR 660.306(h).

Authority: 16 U.S.C. 1801 et seq.

Dated: March 18, 2003.
Richard W. Surdi,
Acting Director, Office of Sustainable Fisheries, National Marine Fisheries Service.

[FR Doc. 03-6849 Filed 3-20-03; 8:45 am]

BILLING CODE 3510-22-S